DEPARTMENT OF DEFENSE

Department of the Air Force

Announcement of IS-GPS-800 Interface Control Working Group (ICWG) Follow-On Meeting

AGENCY: Department of the Air Force.

ACTION: Meeting notice.

SUMMARY: This notice informs the public that the Global Positioning Systems Wing will be hosting a follow-on meeting to the Public ICWG that occurred on 25 Sept 2007 at the ION GNSS Conference in Ft. Worth, TX. The meeting will take place on 19 Nov 2007 at the SAIC Facility in El Segundo and will address the action item to review a “tracked changes” version of the IS-GPS-800. The meeting will consist of a line-by-line review and discussion of all L1 MBOC spreading codes and L1 bandwidth augmentation changes within the document. A tracked change “was/is” version of the document can be found at the following address for review: http://www.losangeles.af.mil/library/factsheets/factsheet.asp?id=9364. To make additional comments, please open the “Comment Form Draft IS-GPS-800” on the Web site and e-mail comments to Thomas Davis and Capt Garrett Knowlan by 5 Nov 2007 (contact info below). For those who would like to attend and participate in this meeting, you are requested to register by 14 November 2007. Please send the registration to thomas.davis.ctr@losangeles.af.mil and provide your name, organization, telephone number, address, and country of citizenship. Foreign nationals must have their passports available on the day of the meeting or admittance will be denied. The parking lot can be entered via Sepulveda Blvd or Grand Ave. The outside parking lot is available for all cars, but the underground parking structure is only for those with monthly parking passes. Parking validation is provided.

DATES: Monday, 19 November 2007, 8 a.m.-4 p.m., located at SAIC, El Segundo, 300 N. Sepulveda, Suite 3000, El Segundo, CA 90245.

FOR FURTHER INFORMATION CONTACT: Thomas Davis, thomas.davis@linquest.com, 1-310-416-8440, or Captain Michael Whiting, Michael.Whiting@losangeles.af.mil, 1-310-653-3936.

Bao-Anh Trinh,
Air Force Federal Register Liaison Officer.

[FR Doc. E7-21499 Filed 10-31-07; 8:45 am]

BILLING CODE 5001-05-P